DEPARTMENT OF JUSTICE

[OMB Number 1110-0046]

Agency Information Collection Activities; Proposed eCollection eComments Requested; Revision of a Currently Approved Collection

AGENCY: Criminal Justice Information Services Division, Federal Bureau of Investigation, Department of Justice.

ACTION: 60-day notice.

SUMMARY: The Criminal Justice Information Services (CJIS) Division, Federal Bureau of Investigation (FBI), Department of Justice (DOJ) will be submitting the following information collection request to the Office of Management and Budget (OMB) for review and approval in accordance with the Paperwork Reduction Act of 1995. Friction Ridge Cards: Arrest and Institution FD-249; Applicant FD-258; Identity History Summary Request FD-1164; FBI Standard Palm Print FD-884; Supplemental Finger and Palm Print FD-884a; Voluntary Appeal File Fingerprint FD-1212; Firearm-Related Challenge Fingerprint FD-1211.

DATES: The DOJ encourages public comment and will accept input until May 19, 2023.

FOR FURTHER INFORMATION CONTACT: If you have additional comments, especially on the estimated public burden or associated response time, suggestions, or need a copy of the proposed information collection instrument with instructions or additional information, please contact Larry E. Cotton-Zinn, Management and Program Analyst, Criminal History Information and Policy Unit, CJIS, FBI, BTC-3, 1000 Custer Hollow Road; Clarksburg, WV 26306; phone: 304-625-5590 or email fbi-iii@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how quality, utility, and clarity of the information to be collected and be enhanced; and

—Minimize the burden of the collection of information on those who are to respond, including through the use of appropriate automated, electronic, mechanical, or other technological collection techniques or other forms of information technology, e.g., permitting electronic submission of responses.

Overview of This Information Collection

Type of Information Collection: Revision of a currently approved collection.

Title of the Form/Collection: Friction Ridge Cards: Arrest and Institution; Applicant; Identity History Summary Request; FBI Standard Palm Print; Supplemental Finger and Palm Print; Voluntary Appeal File Fingerprint; Firearm-Related Challenge Fingerprint. Agency form number, if any, and the applicable component of the Department sponsoring the collection: Agency form number: Forms FD-249 (Arrest and Institution), FD-258 (Applicant), and FD-1164 (Identity History Summary Request); FD-884 (FBI Standard Palm Print); FD-884a (Supplemental Finger and Palm Print); FD-1212 (Voluntary Appeal File Fingerprint); FD-1211 (Firearm-Related Challenge Fingerprint) encompassed under OMB 1110-0046; CJIS Division, FBI, DOJ.

Affected public who will be asked or required to respond, as well as a brief abstract: Primary: City, county, state, Federal and tribal law enforcement agencies; civil entities requesting security clearance and background checks. This collection is needed to collect information on individuals requesting background checks, security clearance, or those individuals who have been arrested for or accused of criminal activities. Acceptable data is stored as part of the Next Generation Identification System (NGI) of the FBI.

An estimate of the total number of respondents and the amount of time estimated for an average respondent to respond: It is estimated that 460,762 respondents will complete each form within approximately 10 minutes. A respondent may submit multiple forms thus resulting in 69.2 million total annual responses.

An estimate of the total public burden (in hours) associated with the collection: There are an estimated 11.5 million total annual burden hours associated with this collection.

If additional information is required contact: John Carlson, Department Clearance Officer, United States Department of Justice, Justice Management Division, Policy and Planning Staff, Two Constitution Square, 145 N Street NE, 3E.405B, Washington, DC 20530.

Dated: March 14, 2023.
John Carlson,
Department Clearance Officer for PRA, U.S. Department of Justice.

[FR Doc. 2023-05605 Filed 3-17-23; 8:45 am]

BILLING CODE 4410-02-P